DEPARTMENT OF COMMERCE

National Oceanic and Atmospheric Administration

[RTID 0648-XE749]

New England Fishery Management Council; Public Meeting

AGENCY: National Marine Fisheries Service (NMFS), National Oceanic and Atmospheric Administration (NOAA), Commerce.

ACTION: Notice of a public meeting.

SUMMARY: The New England Fishery Management Council (Council) is holding a public meeting of its Scientific and Statistical Committee (SSC) via webinar to consider actions affecting New England fisheries in the exclusive economic zone (EEZ). Recommendations from this group will be brought to the full Council for formal consideration and action, if appropriate.

DATES: This meeting will be held on Friday, April 4, 2025, beginning at 9 a.m.

ADDRESSES:

Webinar Registration information: https://nefmc-org.zoom.us/meeting/register/KdBy56K9S7uxwrsadkeIQg.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The Scientific and Statistical Committee (SSC) will meet to Consider revising recommendations for the overfishing limits (OFL) and acceptable biological catches (ABC) for Atlantic herring: specifically review updated information provided by the Council's Atlantic Herring Plan Development Team (PDT) and the Atlantic States Marine Fisheries Commission's Atlantic Herring Technical Committee (TC) including: (1) Stock projections with an updated fishing year (FY) 2024 fishery catch estimate and a risk analysis prepared by the PDT/TC, and (2) Outcomes from the March 2025 peer review of the Research Track Stock Assessment and recommend Atlantic herring OFLs and ABCs for FYs 2025 and 2026, based on the new information and consider default specifications for FY2027. The Committee will also receive an overview of and discuss the SSC work plan for 2025. They will also provide input on potential themes for the ninth meeting of the Council Coordination Committee's Scientific Coordination Subcommittee. Other business will be discussed, as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: March 10, 2025.
Rey Israel Marquez,
Acting Deputy Director, Office of Sustainable Fisheries, National Marine Fisheries Service.

[FR Doc. 2025-04054 Filed 3-13-25; 8:45 am]

BILLING CODE 3510-22-P